DEPARTMENT OF DEFENSE

Office of the Secretary

[Docket ID: DOD-2010-OS-0025]

Privacy Act of 1974; Systems of Records

AGENCY: Defense Intelligence Agency, (DoD).

ACTION: Notice to amend a system of records.

SUMMARY: The Defense Intelligence Agency proposes to amend a system of records notice of its inventory of record systems subject to the Privacy Act of 1974 (5 U.S.C. 552a), as amended.

DATES: This action will be effective without further notice on April 19, 2010 unless comments are received that would result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa S. Lowery at (202) 231-1193.

SUPPLEMENTARY INFORMATION: The Defense Intelligence Agency notices for systems of records subject to the Privacy Act of 1974 (5 U.S.C. 552a), as amended, have been published in the Federal Register and are available from the Freedom of Information Act Office, Defense Intelligence Agency (DAN-1A), 200 MacDill Blvd., Washington, DC 20340-5100.

The specific changes to the record system being amended are set forth below followed by the notice, as amended, published in its entirety. The proposed amendment is not within the purview of subsection (r) of the Privacy Act of 1974 (5 U.S.C. 552a), as amended, which requires the submission of a new or altered system report.

Dated: March 15, 2010.
Mitchell S. Bryman,
Alternate OSD Federal Register Liaison Officer, Department of Defense.

LDIA 0435

System name:

DIA Military Awards Files (July 19, 2006; 71 FR 41001).

Changes:

* * * * *

Categories of records in the system:

Delete entry and replace with “Full name, current address, telephone number and Social Security Number (SSN) of individual and supporting documents for the awards nomination and the results of actions or recommendations of endorsing and approving officials for joint and service awards.”

Authority for maintenance of the system:

Delete entry and replace with “Department of Defense Manual 1348.33M, Manual of Military Decorations; Defense Intelligence Agency Instruction 1348.001, Military Personnel Awards; Army Regulation 600-8-22, Military Awards; SECNAV Inst 1650.1H, Navy and Military Awards Instruction; Air Force Instruction 36-2803, Air Force Awards and Decorations Program; and E.O. 9397 (SSN), as amended.”

* * * * *

Retrievability:

Delete entry and replace with “By last name of individual and Social Security Number (SSN).”

Safeguards:

Delete entry and replace with “Records are stored in office buildings protected by guards, controlled screenings, use of visitor registers, electronic access, and/or locks. Access to records is limited to individuals who are properly screened and cleared on a need-to-know basis in the performance of their duties. Passwords and user IDs are used to control access to the system data, and procedures are in place to deter and detect browsing and unauthorized access. Physical and electronic access are limited to persons responsible for servicing and authorized to use the system.”

Retention and disposal:

Delete entry and replace with “Temporary Records—Records are maintained for 3 years within DIA, then retired to the Washington National Records Center where they are destroyed when 15 years old. The records are destroyed by shedding/erasure.”

* * * * *

LDIA 0435

System name:

DIA Military Awards Files.

System location:

Defense Intelligence Agency, 200 McDill Boulevard, Washington, DC 20340-5100.

Categories of individuals covered by the system:

Military personnel, active duty and reserve, and Coast Guard personnel during time of war, recommended for an award while assigned or attached to DIA.

Categories of records in the system:

Full name, current address, telephone number and Social Security Number (SSN) of individual and supporting documents for the awards nomination and the results of actions or recommendations of endorsing and approving officials for joint and service awards.

Authority for maintenance of the system:

Department of Defense Manual 1348.33M, Manual of Military Decorations; Defense Intelligence Agency Instruction 1348.001, Military Personnel Awards; Army Regulation 600-8-22, Military Awards; SECNAV Inst 1650.1H, Navy and Military Awards Instruction; Air Force Instruction 36-2803, Air Force Awards and Decorations Program; and E.O. 9397 (SSN), as amended.

Purpose(s):

Information is collected and submitted to determine eligibility for awards and decorations to individuals and units while assigned or attached to the DIA. Information is required for preparation of orders for award citation and inclusion in individual's Service record. Records are used to obtain the approval for the awarding of the decoration, for the compilation of required statistical data and provided to the Military departments when appropriate.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The ‘Blanket Routine Uses’ set forth at the beginning of the DIA's compilation of systems of records notices apply to this system.

Policies and practices for storing, retrieving, accessing, retaining, and disposing of records in the system:

Storage:

Paper records in file folders and stored electronically in a database.

Retrievability:

By last name of individual and Social Security Number (SSN).

Safeguards:

Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access are limited to persons responsible for servicing and authorized to use the system.

Retention and disposal:

Temporary Records—Records are maintained for 3 years within DIA, then retired to the Washington National Records Center where they are destroyed when 15 years old. The records are destroyed by shedding/erasure.

System manager(s) and address:

Deputy Director for Human Capital, ATTN: HCH, Defense Intelligence Agency, Washington DC 20340-5100.

Notification procedure:

Individuals seeking to determine whether information about themselves is contained in this system of records should address written inquiries to the Freedom of Information Act Office (DAN-1A/FOIA), Defense Intelligence Agency, 200 MacDill Blvd, Washington DC 20340-5100.

Individual should provide their full name, current address, telephone number and Social Security Number (SSN).

Record access procedures:

Individuals seeking access to information about themselves contained in this system should address written inquiries to the Freedom of Information Act Office (DAN-1A/FOIA), Defense Intelligence Agency, 200 MacDill Blvd. Washington DC 20340-5100.

Individual should provide their full name, current address, telephone number and Social Security Number (SSN).

Contesting record procedures:

DIA's rules for accessing records, for contesting contents and appealing initial agency determinations are published in DIA Regulation 12-12 “Defense Intelligence Agency Privacy Program”; 32 CFR part 319 or may be obtained from the system manager.

Record source categories:

Agency officials, parent Service and personnel records.

Exemptions claimed for the system:

None.

[FR Doc. 2010-5959 Filed 3-17-10; 8:45 am]

BILLING CODE 5001-06-P